DEPARTMENT OF ENERGY

Federal Energy Regulatory Commission

[Docket No. IC20-4-000]

Commission Information Collection Activities (FERC-725I); Comment Request; Extension

AGENCY: Federal Energy Regulatory Commission.

ACTION: Notice of information collection and request for comments.

SUMMARY: In compliance with the requirements of the Paperwork Reduction Act of 1995 (PRA), the Federal Energy Regulatory Commission (Commission or FERC) is soliciting public comment on the currently approved information collection, FERC-725I (Mandatory Reliability Standards for the Northeast Power Coordinating Council) and submitting the information collection to the Office of Management and Budget (OMB) for review. Any interested person may file comments directly with OMB and should address a copy of those comments to the Commission as explained below.

DATES: Comments on the collection of information are due March 4, 2020.

ADDRESSES: Comments filed with OMB, identified by the OMB Control No. 1902-0258, should be sent via email to the Office of Information and Regulatory Affairs: oira_submission@omb.gov Attention: Federal Energy Regulatory Commission Desk Officer.

A copy of the comments should also be sent to the Commission, in Docket No. IC20-4-000, by either of the following methods:

• eFiling at Commission's website: http://www.ferc.gov/docs-filing/efiling.asp

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-725I (Mandatory Reliability Standards for the Northeast Power Coordinating Council).

OMB Control No.: 1902-0258.

Type of Request: On November 25, 2019, the 60-day notice was published in the Federal Register (84 FR 64885). The Commission received no comments. Three-year extension of the FERC-725I with no changes to the current reporting and recordkeeping requirements.

Abstract: The Regional Reliability standard PRC-006-NPCC-1 (Automatic Underfrequency Load Shedding) provides regional requirements for Automatic Underfrequency Load Shedding to applicable entities in NPCC. UFLS requirements were in place at a continent-wide level and within NPCC for many years prior to the implementation of federally mandated reliability standards in 2007. NPCC and its members think that a region-wide, fully coordinated single set of UFLS requirements is necessary to create an effective and efficient UFLS program, and their experience has supported that belief.

Information collection burden for Reliability Standard PRC-006-NPCC-01 is based on the time needed for planning coordinators and generator owners to incrementally gather data, run studies, and analyze study results to design or update the UFLS programs that are required in the regional Reliability Standard (in addition to the requirements of the NERC Reliability Standard PRC-006-3). There is also burden on the generator owners to maintain data.

Type of Respondent: Generator Owners and Planning Coordinators.

Estimate of Annual Burden: ¹ The number of respondents is based on NERC's Registry as of July 26, 2019. Entities registered for more than one applicable function type have been accounted for in the figures below. The Commission estimates the annual public reporting burden and cost ² for the information collection as:

¹ “Burden” is the total time, effort, or financial resources expended by persons to generate, maintain, retain, or disclose or provide information to or for a Federal agency. For further explanation of what is included in the information collection burden, refer to Title 5 Code of Federal Regulations 1320.3.

² Commission staff estimates that the industry's skill set and cost (for wages and benefits) for FERC-725I are approximately the same as the Commission's average cost. The FERC 2019 average salary plus benefits for one FERC full-time equivalent (FTE) is $167,091/year (or $80.00/hour).

FERC-725I (Mandatory Reliability Standards for the Northeast Power Coordinating Council)
Information collection requirements | Number of respondents | Annual number of responses per respondent | Total number of responses | Average burden hours & cost ($) per response | Total annual burden hours & total annual cost ($) | Cost per respondent ($)
| (1) | (2) | (1) * (2) = (3) | (4) | (3) * (4) = (5) | (5) ÷ (1)
PCs Design and document automatic UFLS program | 2 | 1 | 2 | 8 hrs.; $640 | 16 hrs.; $1,280 | $640
PCs update and maintain UFLS program database | 2 | 1 | 2 | 16 hrs.; $1,280 | 32 hrs.; $2,560 | 1,280
GOs provide documentation and data to the planning coordinator | 125 | 1 | 125 | 16 hrs.; $1,280 | 2,000 hrs.; $160,000 | 1,280
GOs: record retention | 125 | 1 | 125 | 4 hrs.; $320 | 500 hrs.; $40,000 | 320
Total |  |  | 254 |  | $203,840; 2,548 hrs. |

Comments: Comments are invited on: (1) Whether the collection of information is necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

Dated: January 28, 2020.
Kimberly D. Bose,
Secretary.

[FR Doc. 2020-01956 Filed 1-31-20; 8:45 am]

BILLING CODE 6717-01-P